DEPARTMENT OF DEFENSE

Department of the Navy

Meeting of the Chief of Naval Operations (CNO) Executive Panel

AGENCY: Department of the Navy, DoD.

ACTION: Notice of closed meeting.

SUMMARY: The CNO Executive Panel is to report the findings and recommendations of the Shaping the Force Study Group to the Chief of Naval Operations. The meeting will consist of discussions of policy considerations to advance efforts to shape the Navy's workforce and develop a systematic Navy Human Resources strategy.

DATES: The meeting will be held on Wednesday, October 27, 2004, from 12 p.m. to 1 p.m.

ADDRESSES: The meeting will be held at the Chief of Naval Operations office, Room 4E540, 2000 Navy Pentagon, Washington, DC 20350-2000.

FOR FURTHER INFORMATION CONTACT: Mr. Mark R. Miller, CNO Executive Panel, 4825 Mark Center Drive, Alexandria, VA 22311, (703) 681-4924.

SUPPLEMENTARY INFORMATION: Pursuant to the provisions of the Federal

Advisory Committee Act (5 U.S.C. App. 2), these matters relate solely to the internal personnel rules and practices of the Navy. Accordingly, the Secretary of the Navy has determined in writing that the public interest requires that all sessions of the meeting be closed to the public because they will be concerned with matters listed in section 552b(c)(2) of title 5, United States Code.

Dated: October 4, 2004.
J.H. Wagshul,
Commander, Judge Advocate General's Corps, U.S. Navy, Federal Register Liaison Officer.

[FR Doc. 04-22710 Filed 10-7-04; 8:45 am]

BILLING CODE 3810-FF-P